DEPARTMENT OF ENERGY

Federal Energy Regulatory Commission

[Docket No. PF07-10-000]

LNG Development Company, LLC and Oregon Pipeline Company; Supplemental Notice of Intent To Prepare an Environmental Impact Statement for the Proposed Oregon LNG Terminal and Pipeline Project, Request for Comments on Environmental Issues and Notice of Public Meetings

April 28, 2008.

The staff of the Federal Energy Regulatory Commission (FERC or Commission) is in the process of evaluating the Oregon LNG Terminal and Pipeline Project involving the construction and operation of facilities proposed by LNG Development Company, LLC and Oregon Pipeline Company (collectively referred to as Oregon LNG). The facilities would be located in northern Oregon and consist of a liquefied natural gas (LNG) import terminal in Warrenton, Oregon, and an associated 121-mile-long natural gas pipeline from the LNG import terminal southeastward across Clatsop, Tillamook, Columbia, Washington, Yamhill, Marion, and Clackamas Counties, Oregon, to an interconnection with existing natural gas pipelines systems near Molalla in Clackamas County, Oregon.

As a part of this evaluation, FERC staff will prepare an environmental impact statement (EIS) that will address the environmental impacts of the project. The Commission will use the EIS in its decision-making process to determine whether or not to authorize the project. Although the FERC will be the lead federal agency in the preparation of an EIS that will satisfy the requirements of the National Environmental Policy Act (NEPA), the U.S. Coast Guard and U.S. Army Corps of Engineers will serve as cooperating agencies during preparation of the EIS.

Oregon LNG has not yet filed a formal application with the FERC. However, we ¹ have initiated a NEPA review under the FERC's Pre-Filing Process. The purpose of the Pre-Filing Process is to encourage the early involvement of interested stakeholders and to identify and resolve issues before an application is filed with the FERC. As part of this process, the FERC issued a Notice of Intent to Prepare an Environmental Impact Statement for the Proposed Oregon LNG Terminal and Pipeline Project, Request for Comments on Environmental Issues and Notice of Public Meetings (NOI) on August 24, 2007. Since that NOI was issued, Oregon LNG has changed its proposed project. Specifically, the routing of the pipeline route has changed and the project now includes a 9.4-mile-long pipeline lateral as well as an electric compressor station. Because of these changes, the FERC issued this supplemental NOI. Through the original and supplemental NOIs, we are seeking input from the public in preparing the EIS for the project.

¹ “We,” “us,” and “our” refer to the environmental staff of the FERC's Office of Energy Projects.

This supplemental NOI explains the scoping process we will use to gather information on the project from the public and interested agencies. Your input will help identify the issues that need to be evaluated in the EIS. Comments on the project may be submitted in written form or verbally. Further details on how to submit written comments are provided in the Public Participation section of this NOI. Please note that comments on this NOI are requested by June 12, 2008.

In lieu of sending written comments, we invite you to attend the public scoping meetings scheduled as follows:

Tuesday, May 20, 2008, 7 p.m. Banks High School Gymnasium, 450 S. Main St., Banks, OR 97106.

Wednesday, May 21, 2008, 7 p.m. Warrenton High School Gymnasium, 1700 SE Main St., Warrenton, OR 97146.

Thursday, May 22, 2008, 7 p.m. Woodburn High School Lectorium, 1785 N. Front Street, Woodburn, OR 97071.

This supplemental NOI is being sent to Federal, state, and local government agencies; elected officials; potentially affected landowners; environmental and public interest groups; Indian tribes and regional Native American organizations; commentors and other interested parties; and local libraries and newspapers. We encourage government representatives to notify their constituents of this planned project and encourage them to comment on their areas of concern.

Summary of the Proposed Project

Oregon LNG proposes to construct and operate an LNG import terminal and storage facility, and associated natural gas sendout pipeline with a capacity to deliver up to 1.5 billion cubic feet per day. Specifically, Oregon LNG proposes the following primary project components:

• A marine facility, including LNG unloading equipment and one ship berth capable of handling an average of 100 LNG carrier ships per year (the capacity of the ships would range from 70,000 up to 260,000 cubic meters (m³) per ship);

• Interconnecting facilities including piping, electrical, and control systems;

• A LNG spill containment and collection system;

• Three full containment LNG storage tanks, each with a nominal usable storage capacity of 160,000 m³;

• Vapor handling, re-gasification, and sendout systems;

• Utilities, telecommunications, and other supporting systems;

• Administrative, control room, warehouse, security, and other buildings and enclosures;

• Interconnecting roadways and civil works;

• A 121-mile-long, 36-inch-diameter natural gas sendout pipeline extending from the LNG terminal to interconnections at Molalla Gate Station, in Clackamas County, Oregon, with other existing natural gas pipelines including the interstate natural gas pipeline system operated by Williams Northwest Pipeline Company (Williams) and the intrastate South Mist Pipeline Extension operated by Northwest Natural Gas Company (NW Natural);

• A 9.4-mile-long, 24-inch-diameter natural gas lateral pipeline extending from Oregon LNG's pipeline to pipeline facilities operated by NW Natural in northern Washington County, Oregon (the 24-inch-diameter South Mist Pipeline Extension and the 16-inch-diameter South Mist Feeder); and

• An electric compressor station located along Oregon LNG's 36-inch-diameter pipeline about 0.7 mile south of State Highway 26.

A location map depicting Oregon LNG's proposed facilities is attached to this NOI as Appendix 1.² These facilities and the possible environmental impacts from their construction and operation were described in detail in draft resource reports filed with the FERC between December 2007 and March 2008.

² The appendices referenced in this notice are not being printed in the Federal Register. Copies are available on the Commission's Web site (excluding maps) at the “e-Library” link or from the Commission's Public Reference Room or call (202) 502-8371. For instructions on connecting to e-Library refer to the end of this notice. Copies of the appendices were sent to all those receiving this notice in the mail.

The EIS Process

NEPA requires the Commission to take into account the environmental impacts that could result from an action when it considers whether or not an LNG import terminal and/or an interstate natural gas pipeline should be approved. The FERC will use the EIS to consider the environmental impacts that could result if it issues project authorizations to Oregon LNG under sections 3 and 7 of the Natural Gas Act. NEPA also requires us to discover and address concerns the public may have about proposals. This process is referred to as “scoping.” The main goal of the scoping process is to focus the analysis in the EIS on the important environmental issues. With this NOI, the Commission staff is requesting public comments on the scope of the issues to be addressed in the EIS. All comments received will be considered during preparation of the EIS.

In the EIS we will discuss impacts that could occur as a result of the construction, operation, and maintenance of the proposed project under these general headings:

• Geology and soils;

• Water resources;

• Aquatic resources;

• Vegetation and wildlife;

• Threatened and endangered species;

• Land use, recreation, and visual resources;

• Cultural resources;

• Socioeconomics;

• Marine transportation;

• Air quality and noise;

• Reliability and safety;

• Cumulative impacts.

In the EIS, we will also evaluate possible alternatives to the proposed project or portions of the project, and make recommendations on how to lessen or avoid impacts on affected resources.

Our independent analysis of the issues will be included in a draft EIS. The draft EIS will be mailed to federal, state, and local government agencies; elected officials; affected landowners; environmental and public interest groups; Indian tribes and regional Native American organizations; commentors; other interested parties; local libraries and newspapers; and the FERC's official service list for this proceeding. A 45-day comment period will be allotted for review of the draft EIS. We will consider all comments on the draft EIS and revise the document, as necessary, before issuing a final EIS. We will consider all comments on the final EIS before we make our recommendations to the Commission. To ensure that your comments are considered, please follow the instructions in the Public Participation section of this NOI.

Currently Identified Environmental Issues

We have already identified issues that we think deserve attention based on our previous experience with similar projects in the region and our review of comments provided in response to the original NOI that was issued on August 24, 2007. This preliminary list of some of the major issues, which is presented below, may be revised based on your comments and our continuing analyses specific to the Oregon LNG Terminal and Pipeline Project.

• Definition of project purpose and need.

• Impact of LNG vessel traffic on other users, including commercial ships, fishing, and recreational boaters on the lower Columbia River.

• Potential impacts of dredging the turning basin and LNG ship berth on water quality and estuarine fishery resources.

• Potential impacts of the LNG terminal on residents in Warrenton and the surrounding area, including consideration of issues related to safety, noise, air quality, and visual resources.

• Potential for geological hazards, including seismic activity, to have impacts on both the proposed LNG import terminal and pipelines.

• Potential impacts of the pipelines on waterbodies and wetlands.

• Potential impacts of the pipeline on vegetation, including the clearing of forested areas and the potential for increased risk of wild fires.

• Potential impacts of the pipeline on threatened and endangered species and wildlife habitat.

• Potential impacts of the pipeline on cultural resources.

• Potential economic impacts of the project, including potential impacts on property values.

• Use of eminent domain for project development.

• Potential impacts on high-value croplands and agricultural practices in the Willamette Valley.

• Potential for cumulative impacts resulting from multiple pipeline projects in the region.

Public Participation

You can make a difference by providing us with your specific comments or concerns about the Oregon LNG Terminal and Pipeline Project. By becoming a commentor, your concerns will be addressed in the EIS and considered by the Commission. Your comments should focus on the potential environmental effects, reasonable alternatives (including alternative facility sites and pipeline routes), and measures to avoid or lessen environmental impacts. The more specific your comments, the more useful they will be. To ensure that your comments are timely and properly recorded, please follow these instructions:

• Send an original and two copies of your letter to: Kimberly D. Bose, Secretary, Federal Energy Regulatory Commission, 888 First St., NE., Room 1A, Washington, DC 20426.

• Label one copy of your comments for the attention of OEP/DG2E/Gas Branch 2, PJ-11.2.

• Reference Docket No. PF07-10-000 on the original and both copies.

• Mail your comments so that they will be received in Washington, DC, on or before June 12, 2008.

The Commission strongly encourages electronic filing of any comments in response to this NOI. See 18 Code of Federal Regulations 385.2001(a)(1)(iii) and the instructions on the Commission's Internet Web site at http://www.ferc.gov under the link to “Documents and Filings” and “eFiling.” eFiling is a file attachment process and requires that you prepare your submission in the same manner as you would if filing on paper, and save it to a file on your hard drive. New eFiling users must first create an account by clicking on “Sign up” or “eRegister.” You will be asked to select the type of filing you are making. This filing is considered a “Comment on Filing.” In addition, there is a “Quick Comment” option available, which is an easy method for interested persons to submit text only comments on a project. The Quick-Comment User Guide can be viewed at http://www.ferc.gov/docs-filing/efiling/quick-comment-guide.pdf. Quick Comment does not require a FERC eRegistration account; however, you will be asked to provide a valid e-mail address. All comments submitted under either eFiling or the Quick Comment option are placed in the public record for the specified docket or project number(s).

Once Oregon LNG formally files its application with the Commission, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's web site. Please note that you may not request intervenor status at this time. You must wait until a formal application is filed with the Commission.

Environmental Mailing List

If you wish to remain on the environmental mailing list, please return the attached Mailing List Retention Form (Appendix 2 of this NOI). If you do not return this form, we will remove your name from our mailing list.

Additional Information

Additional information about the project is available from the Commission's Office of External Affairs at 1-866-208-FERC (3372), or on the FERC Internet Web site (http://www.ferc.gov) using the “eLibrary link.” Click on the eLibrary link, select “General Search” and enter the project docket number, excluding the last three digits (i.e., PF07-10) in the “Docket Number” field. Be sure you have selected an appropriate date range. For assistance with eLibrary, the eLibrary helpline can be reached at 1-866-208-3676, TTY (202) 502-8659, or by e-mail at FERCOnlineSupport@ferc.gov. The eLibrary link on the FERC website also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

Finally, Oregon LNG has established a web site for this project at http://www.oregonlng.com. The Web site includes a project overview, status, potential impacts and mitigation, and answers to frequently asked questions. Additionally, you can view the location of the project facilities online at: http://www.oregonpipelinepropertysearch.com. You can also request additional information by calling Oregon LNG directly at (503) 298-4969, or by sending an e-mail to info@OregonLNG.com.

Kimberly D. Bose,
Secretary.

[FR Doc. E8-9806 Filed 5-2-08; 8:45 am]

BILLING CODE 6717-01-P